FEDERAL COMMUNICATIONS COMMISSION

[Report No. 2548]

Petitions for Reconsideration of Action in Rulemaking Proceeding

April 30, 2002.

Petitions for Reconsideration have been filed in the Commission's rulemaking proceeding listed in this Public Notice and published pursuant to 47 CFR 1.429(e). The full text of this document is available for viewing and copying in Room CY-A257, 445 12th Street, SW., Washington, DC or may be purchased from the Commission's copy contractor, Qualex International (202) 863-2893. Oppositions to these petitions must be filed by May 23, 2002. See Section 1.4(b)(1) of the Commission's rules (47 CFR 1.4(b)(1)). Replies to an opposition must be filed within 10 days after the time for filing oppositions has expired.

Subject: Amendment of part 22 of the Commission's rules to provide for filing and processing of applications for unserved areas in the cellular service and to modify other cellular rules (CC Docket No. 90-6).

Cellular service and other commercial mobile radio services in the gulf of Mexico (WT Docket No. 97-112).

Number of Petitions Filed: 2.

Marlene H. Dortch,
Secretary.

[FR Doc. 02-11391 Filed 5-7-02; 8:45 am]

BILLING CODE 6712-01-M